DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: Current Population Survey, Annual Social and Economic (Parallel) Survey.

OMB Control Number: None.

Form Number(s): There are no forms. We conduct all interviews on computers.

Type of Request: Emergency review.

Number of Respondents: 28,000.

Average Hours per Response: 0.5.

Burden Hours: 14,000.

Needs and Uses: At the request of the U.S. Congress, the Census Bureau plans to request clearance for the collection of data concerning the Annual Social and Economic Supplement (ASEC) to be conducted in conjunction with the March Current Population Survey (CPS). This data collection will be completely separate and independent from the ASEC conducted in February, March, and April.

This data collection will mirror that which was collected in survey year 2013, prior to the recent redesign of income and health insurance questions in 2014. The resulting data will serve to provide a baseline for comparison to data collected in February, March, and April from the 2015 ASEC, which will consist of the redesigned questions.

Affected Public: Individuals or Households.

Frequency: Annually.

Respondent's Obligation: Voluntary.

Legal Authority: Title 13, United States Code, Section 182; and Title 29, United States Code, Sections 1-9.

This information collection request may be viewed at www.reginfo.gov. Follow the instructions to view Department of Commerce collections currently under review by OMB.

Written comments and recommendations for the proposed information collection should be sent within 30 days of publication of this notice to OIRA_Submission@omb.eop.gov or fax to (202) 395-5806.

Dated: January 9, 2015.
Glenna Mickelson,
Management Analyst, Office of the Chief Information Officer.

[FR Doc. 2015-00454 Filed 1-13-15; 8:45 am]

BILLING CODE 3510-07-P